COMMITTEE FOR PURCHASE FROM PEOPLE WHO ARE BLIND OR SEVERELY DISABLED

Procurement List; Proposed Additions

AGENCY: Committee for Purchase From People Who Are Blind or Severely Disabled.

ACTION: Proposed additions from the Procurement List.

SUMMARY: The Committee is proposing to add a product and a service to the Procurement List that will be furnished by nonprofit agencies employing persons who are blind or have other severe disabilities.

DATES: Comments must be received on or before: February 11, 2018.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

The following product and service are proposed for addition to the Procurement List for production by the nonprofit agencies listed:

Product

NSN—Product Name: 6850-01-474-2317—Solvent, Dry Cleaning, Degreasing, 5 Gal

Mandatory Source of Supply: The Lighthouse for the Blind, St. Louis, MO

Mandatory for: Broad Government Requirement

Contracting Activity: Defense Logistics Agency Aviation

Service

Service Type: Janitorial and Related Service

Mandatory for: GSA Region 5, FDA Forensic Chemistry Center, 6751 Steger Drive, Cincinnati, OH

Mandatory Source of Supply: Portco, Inc., Portsmouth, VA

Contracting Activity: GSA, Public Buildings Service, PBS R5

Patricia Briscoe,
Deputy Director, Business Operations, Pricing and Information Management.

[FR Doc. 2018-00423 Filed 1-11-18; 8:45 am]

BILLING CODE 6353-01-P